DEPARTMENT OF HOMELAND SECURITY

Coast Guard

33 CFR Part 117

[Docket No. USCG-2010-1121]

Drawbridge Operation Regulations; Passaic River, Jersey City, NJ

AGENCY: Coast Guard, DHS.

ACTION: Notice of temporary deviation from regulations.

SUMMARY: The Commander, First Coast Guard District, has issued a temporary deviation from the regulation governing the operation of the Route 1 & 9 Bridge across the Passaic River, mile 1.8, at Jersey City, New Jersey. The deviation is necessary for bridge painting. This deviation allows the bridge owner to require a two-hour advance notice for bridge openings and several short duration bridge closures.

DATES: This deviation is effective from April 1, 2011 through July 31, 2011.

ADDRESSES: Documents mentioned in this preamble as being available in the docket are part of docket USCG-2010-1121 and are available online at http://www.regulations.gov, inserting USCG-2010-1121 in the “Keyword” and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Joe Arca, Project Officer, First Coast Guard District, joe.m.arca@uscg.mil or telephone (212) 668-7165. If you have questions on viewing the docket, call Renee V. Wright, Program Manager, Docket Operations, telephone 202-366-9826.

SUPPLEMENTARY INFORMATION: The Route 1 & 9 Bridge has a vertical clearance of 40 feet at mean high water, and 45 feet at mean low water in the closed position. The existing drawbridge operating regulations are listed at 33 CFR 117.739(b).

The waterway is predominantly used by commercial operators.

The bridge owner, New Jersey Department of Transportation, requested a temporary deviation to facilitate bridge painting operations.

A two-hour advance notice is necessary in order to clear personnel and equipment from the bridge to safely provide bridge openings.

In addition, the painting operation work will necessitate several bridge closures of short duration to erect and relocate containment. The exact times for these closures are not known at this time because it is predicated upon the speed of the painting process. As a result, the Coast Guard will publish a notice in the Local Notice to Mariners two-weeks in advance of each closure as well as issue a safety information broadcast twenty-four hours prior to the commencement of each closure.

Under this temporary deviation a two-hour advance notice for bridge openings shall be required from April 1, 2011 through July 31, 2011, by calling the number posted at the bridge. Further, several bridge closures of short duration will be implemented. The exact bridge closure dates will be published in the Local Notice to Mariners two weeks in advance of each bridge closure and safety broadcasts will be issued twenty-four hours in advance. Vessels able to pass under the closed draw may do so at any time.

Waterway users were advised of the advance notice requirement and the requested bridge closures. No objections were received.

In accordance with 33 CFR 117.35(e), the bridge must return to its regular operating schedule immediately at the end of the designated time period. This deviation from the operating regulations is authorized under 33 CFR 117.35.

Dated: January 11, 2011.
Gary Kassof,
Bridge Program Manager, First Coast Guard District.

[FR Doc. 2011-1808 Filed 1-26-11; 8:45 am]

BILLING CODE 9110-04-P